DEPARTMENT OF DEFENSE

Department of the Army; Corps of Engineers

Notice of Solicitation for Estuary Habitat Restoration Program; Extension of Submittal Date

Correction

In notice document 05-14584 appearing on page 42539 in the issue of Monday, July 25, 2005, make the following corrections:

1. In the first column, under the “SUMMARY:” heading, in the second line, “applications” should read “applicants”.

2. In the same column, under the same heading, in the same paragraph, in the third line, “had” should read “has”.

3. In the same column, under the “DATES:” heading, in the first line, “Proposed” should read “Proposals”.

4. In the same column, under the “ADDRESSES:” heading, in the first line, “Proposed” should read “Proposal”.

5. In the same column, under the ÿ7Esame heading, in the same paragraph, in the third line, “civilworks/cecwo/estuart_act/” should read “civilworks/cecwp/estuary_act/”.

6. In the same column, under the ÿ7Esame heading, in the same paragraph, in the fifth line, “proposed” should read “proposals”.

7. In the second column, in the first line, “submission” should read “submissions”.

[FR Doc. C5-14584 Filed 8-2-05; 8:45 am]

BILLING CODE 1505-01-D

DEPARTMENT OF HEALTH AND HUMAN SERVICES

Food and Drug Administration

21 CFR Part 524

Ophthalmic and Topical Dosage Form New Animal Drugs; Doramectin

Correction

In rule document 05-14630 beginning on page 43046 in the issue of Tuesday, July 26, 2005, make the following correction:

On page 43046, in the second column, under the heading “dates”, in the first and second lines, “July 26, 2006” should read “July 26, 2005”.

[FR Doc. C5-14630 Filed 8-2-05; 8:45 am]

BILLING CODE 1505-01-D

DEPARTMENT OF TRANSPORTATION

Surface Transportation Board

[STB Docket No. AB-290 (Sub-No. 243X)]

Norfolk Southern Railway Company—Abandonment Exemption—in Forsyth County, NC

Correction

In notice document 05-14077 appearing on page 41813 in the issue of Wednesday, July 20, 2005, make the following correction:

In the first column, in the first paragraph, in the last line, “29302 and 29306” should read, “27101, 27104, 27105, and 27107”.

[FR Doc. C5-14077 Filed 8-2-05; 8:45 am]

BILLING CODE 1505-01-D

DEPARTMENT OF TRANSPORTATION

Surface Transportation Board

[STB Docket No. AB-290 (Sub-No. 261X)]

Norfolk Southern Railway Company—Abandonment Exemption—in Spartanburg, SC

Correction

In notice document 05-14078 beginning on page 41813 in the issue of Wednesday, July 20, 2005, make the following correction:

On page 41813, in the third column, in the first paragraph, in the last two lines, “27101, 27104, 27105, and 27107”should read “29302 and 29306”.

[FR Doc. C5-14078 Filed 8-2-05; 8:45 am]

BILLING CODE 1505-01-D